OFFICE OF MANAGEMENT AND BUDGET

Standard Data Elements for Electronically Posting Synopses of Federal Agencies' Financial Assistance Program Announcements at Grants.gov FIND

AGENCY: Office of Management and Budget.

ACTION: Notice of standard data elements.

SUMMARY: The Office of Federal Financial Management (OFFM) is establishing a government-wide standard set of data elements for Federal agencies to use to electronically post, at Grants.gov FIND, synopses of announcements of funding opportunities under programs that award discretionary grants or cooperative agreements. The data elements are designed to give potential applicants: (1) Enough information about each funding opportunity to decide whether they are interested enough to look at the full announcement, which contains the detailed information they need to decide whether they wish to apply; and (2) a way to get the full announcement electronically (either directly at Grants.gov FIND or through an electronic link to another Internet site). The Federal awarding agencies jointly developed these Grants.gov FIND data elements as one part of the interagency grants streamlining effort under the Federal Financial Assistance Management Improvement Act of 1999 (Pub. L. 106-107).

FOR FURTHER INFORMATION CONTACT: Elizabeth Phillips, Office of Federal Financial Management, Office of Management and Budget, 725 17th Street, NW., Washington, DC 20503; telephone 202-395-3053; fax 202-395-3952; e-mail ephillip@omb.eop.gov.

SUPPLEMENTARY INFORMATION:

I. Background

In a Federal Register notice on August 12, 2002 (67 FR 52555), the Office of Management and Budget (OMB) proposed standard data elements for Grants.gov FIND posting of Federal funding opportunities leading to the award of grants, cooperative agreements, and other financial assistance instruments. Grants.gov FIND is modeled after FedBizOpps, an Internet site established by the General Services Administration, as the single site for giving the public access to relevant information about procurement contract opportunities that exceed $25,000. Many of the proposed data elements have been part of a pilot test for Grants.gov FIND, which is to serve as a single site where Federal agencies will post electronic synopses of opportunities for financial assistance awards. That function is expected to be fully operational by October 1, 2003. In response to the Federal Register notice, OMB received comments from 22 entities: Two State governments, two local governments; four universities; a group of universities that participate with Federal agencies in a demonstration program on research administration; one organization representing non-profit entities; two non-profit organizations; three for-profit organizations; and seven Federal agencies. All comments were considered in developing the final data elements.

We will continue to consider some of the comments separately from this notice because they address issues that are beyond the scope of the proposed data elements. Some of the comments (e.g., the general ability of the public to access the Internet) relate broadly to all of the E-Government initiatives of the President's Management Agenda (of which E-Grants is one) and will be considered in that context. Other comments relate more specifically either to the E-Grants initiative's policies for, or design of, the Grants.gov FIND site. We and the E-Grants Program Management Office will address the policy issues as we establish the requirement for agencies to use the Grants.gov FIND site. We will consider comments related to system design (e.g., what search capabilities the system will have) as the E-Grants Program Management Office finalizes the design of the initial system or makes plans for future enhancements. Some of these comments may be addressed in a limited way in this notice, to the extent that they relate to other comments within the scope of the proposal.

In addition to changes we made in response to comments on the proposed data elements, we made two other significant changes. First, we added a data element for “Announcement Type” that an agency will use to indicate whether the Grants.gov FIND synopsis relates to a new announcement or to a modification of one that the agency issued previously. Second, we eliminated the data element for “type of help available from Federal agency contact,” because we believe that the name of the data element “Federal agency contact for electronic access problems” is self-explanatory.

The following sections present a summary of the major comments grouped by subject and our responses to them. Changes to the Grants.gov FIND data elements are discussed in the responses to the comments.

II. Comments and Responses

A. General

Comment: One commenter asked us to clarify the relationship of Grants.gov FIND to the Federal Register. For example, the commenter asked if every announcement published in the Federal Register would also appear at Grants.gov FIND and vice versa.

Response: Grants.gov FIND and the Federal Register are complementary. Grants.gov FIND's primary purposes are to provide: (1) A synopsis of each funding opportunity, the minimum information people need in order to quickly decide whether they want to review the full announcement for that opportunity; and (2) a way to access the full announcement electronically. The Federal Register is one place an agency may locate the full announcement to which the synopsis links electronically.

It is our expectation that, with few exceptions, announcements of opportunities published in the Federal Register will appear in Grants.gov FIND. Whether a given opportunity that is synopsized at Grants.gov FIND will have its full announcement published in the Federal Register is a question for agencies and their program offices. Other locations they could consider include the agency's own or an alternative Internet location.

Comment: Twelve commenters suggested additional data elements, including: A point of contact for programmatic information; if collaboration is required; the population to be served; any geographic restrictions; the countries eligible to be beneficiaries; the source of funding; whether the opportunity is new; whether there are mandatory outcomes or performance standards; whether there are any special security requirements; any limit on the number of applications an organization may submit; the anticipated number of awards; the duration of awards; anticipated award amounts (suggestions included a range; upper and lower limits; or information on awards in various subranges, such as between $100,000 and $500,000); if matching is required; and, if so, whether matching may be either in cash or in-kind and at what percentage of the award amount.

Response: Agree in part. The proposal already included two of the suggested elements—whether cost sharing is required and the funding agency. Grants.gov FIND should provide the minimum summary information that potential applicants need to quickly decide whether they want to read the full announcement. As we reviewed the other suggested data elements, we considered that factor and also whether abbreviated synopsis information would be useful or could instead mislead potential applicants. Based on that analysis, we added two required data elements—any ceiling setting a maximum amount for an individual award; and any floor setting a minimum amount for an individual award. We also added two optional data elements for the estimated total program funding and expected number of awards, with a policy statement encouraging a funding agency to provide this information whenever it is possible to do so. The funding agency may include the other suggested information, and an appropriate level of additional detail, in the full announcement for the funding opportunity.

Comment: Two commenters suggested that information at Grants.gov FIND be harmonized in content and sequential order with the overview section of the standard format that we proposed for full announcements of funding opportunities (a notice at 67 FR 52548, immediately preceding the August 12, 2002, notice on the proposed Grants.gov FIND data elements).

Response: Agree in part. To the extent that the same or similar data elements appear in Grants.gov FIND and the overview portion of the full announcement, we revised the announcement overview data elements to ensure substantive consistency with Grants.gov FIND and the same sequential order. However, it is important to note that Grants.gov FIND and the overview portion of the full announcement serve different purposes and all of the information elements should not be identical. Grants.gov FIND is intended to provide sufficient information to allow a potential applicant to decide whether to read the full announcement. A full announcement's overview section provides additional, more detailed information for people who have decided to review the announcement and who may be preparing applications.

B. Specific Data Elements

Comment: One commenter asked where to find the issuing Federal agency's name.

Response: The proposed data elements included the Federal agency name within the element entitled “Federal agency mailing address.” The final set of data elements has an element entitled “Federal agency name” (see response to next comment).

Comment: Three commenters suggested alternative approaches for the Federal agency mailing and e-mail addresses. One questioned why the mailing address was needed in the Grants.gov FIND synopsis. Another asked for the complete postal mailing address, e-mail address, and telephone and fax numbers. The third asked that more than one Federal agency e-mail contact be allowed.

Response: We agree in part. We changed “Federal agency mailing address” to “Federal agency name.” Given that the purposes of Grants.gov FIND are to provide sufficient information to allow a potential applicant to decide whether to review the full announcement and to provide a link to that announcement, the only reason that potential applicants should need to contact the agency after reviewing the Grants.gov FIND synopsis is if they are having difficulty with the electronic link to the full announcement. The proposal included data elements for that purpose, including the name of a Webmaster or other technical point of contact (called “Federal agency contact for electronic access problems”) and his or her e-mail address (called “Federal agency contact e-mail address”). Other than that, potential applicants should not need to contact the agency before reading the announcement, where they will find points of contact for programmatic or award administration information.

Comment: Two commenters asked why the data elements allowed more than one Federal agency contact name for help with electronic access problems, but only one e-mail address. One commenter saw this as an inconsistency. The second commenter suggested that each name be associated with an e-mail address and the type of help available. In addition, this commenter asked that alternate contact information, such as a telephone number, be provided for those without e-mail.

Response: No change. “Help desk” activities for computer hardware or software system problems generally flow through a single, central e-mail address accessible by several people rather than through individual e-mail accounts. Therefore, agencies are given the option to provide names of multiple individuals at that e-mail address in order to provide the public with needed service. We did add, as suggested, a telephone number for contacting the agency for electronic access problems.

Comment: One commenter expressed concern that the requirement to provide a Catalog of Federal Domestic Assistance (CFDA) number in the Grants.gov FIND synopsis would prevent agencies from listing international funding opportunities. The commenter asked that an additional or alternative system be used that would include international opportunities.

Response: We revised the guidance for the CFDA data element to permit an agency to post funding opportunities under programs that are not listed in the CFDA. However, doing so does not create a requirement for agencies to post international funding opportunities at Grants.gov FIND. The types of agency programs and opportunities that will be subject to the posting requirement is an issue to be resolved during the development of the Grants.gov FIND policy document.

Comment: Two commenters requested expansion of the “Funding instrument types” category. One commenter suggested that it would be helpful for potential applicants to know if the intended instrument is a discretionary or formula grant. That commenter also indicated that if an agency selects “Other,” there should be a text field to describe the meaning of “Other.” The second commenter requested that we explicitly include types of assistance instruments beyond those already specified.

Response: No change. With respect to the comment about formula grants (which can be discretionary or mandatory), if the Grants.gov FIND policy document applies the posting requirement to formula grant opportunities, the Grants.gov FIND user should be able to distinguish formula programs through other data elements (e.g., the funding opportunity title and description, as well as the link to additional program information through the CFDA Number). With respect to a text field to describe what is in “other,” the use of instruments other than “standard” grants, cooperative agreements, or procurement contracts currently is limited to certain agencies and programs with special authorities. We believe it is best for the reader to consult the full announcement for the funding opportunity to learn details about any additional instruments.

Comment: Seven commenters indicated that the “categories of funding activity” were too broad and did not adequately represent the specific aspects of many Federal programs. Several of them asked that we consider using keywords to facilitate the search with more specificity than allowed by the proposed categories. One commenter suggested that we include a text field where an agency selecting “Other” could provide further information.

Response: Agree in part. We adopted the suggestion to require any agency choosing the “Other” category to use the accompanying text box to provide additional explanation. We did not create more specific categories of funding activity. The categories in the proposed data elements, which closely mirror the categories in the CFDA, are intended only to provide an initial “filter” to narrow the field of opportunities to match the user's interests. It is unlikely that a fixed set of categories or keywords could cover the very broad spectrum of Federal activities and still have the necessary degree of specificity to let a user search and find only opportunities in a specific interest area. Current plans for Grants.gov FIND are to have a full-text search capability and electronic announcements would be similarly searchable. Nonetheless, we will continue to consider keyword searches for possible use in the future.

Comment: One commenter suggested the guidance for the “categories of funding activity” encourage agencies to use as many categories as feasible to adequately characterize the program.

Response: No change. The guidance for this data element already indicates that the agency may list as many as needed.

Comment: Eight commenters asked for additions or changes to the proposed categories of eligible applicants. One commenter suggested adding a separate category for non-profits that do not have 501(c)(3) status under the Internal Revenue Service (IRS) code. Another commenter recommended including an “Other” category and accompanying text field that would allow agencies to provide more specific information about eligible applicant categories than the standard list allowed. Other commenters addressed the need for greater specificity in the categories and/or requested a variety of additions.

Response: Agree in part. We changed the proposed category of “Non-profits other than institutions of higher education [includes community action agencies and other organizations having a 501(c)(3) status with the IRS]” to “Non-profits having a 501(c)(3) status with the IRS, other than institutions of higher education”; and added a new category for “non-profits that do not have 501(c)(3) status with the IRS, other than institutions of higher education.” We changed “All others (e.g., U.S. Federal or foreign governmental entities and non-profits that do not have a 501(c)(3) status with the IRS)” to “Other” and added a text field that is required if “Other” is selected. We also changed “Unrestricted (i.e., open to any type of entity below)” to “Unrestricted (i.e., open to any type of entity below), subject to any clarification in the text field entitled ‘Additional information on eligibility'.” We did not otherwise revise the proposed categories to provide greater specificity, which appropriately is found in the full announcement.

Comment: Three commenters recommended changes to the data element entitled “cost-sharing requirement.” One commenter suggested that non-profit organizations may be confused by the term “cost sharing” and that the term “local match” would be better. The second commenter asked that the level of cost sharing be included if cost sharing applies. The third commenter offered that the field should be expanded to include the type of cost-sharing.

Response: In response to the first comment, we expanded the term “cost sharing requirement” to “cost sharing or matching requirement,” terminology currently used in OMB Circulars A-102 and A-110, the circulars containing the government-wide guidance on this subject for awards to States, local and tribal governments, institutions of higher education, and other nonprofit organizations. We similarly changed the title of the cost sharing section in the format for the full announcement of the funding opportunity (see the Federal Register notice accompanying this one)—we expect that each program office, in the full text of that section, will use the term that conforms best with what is predominately used by their communities of potential applicants.

We did not expand this Grants.gov FIND data element to address the level or type of cost sharing. It is not essential that people have those details before deciding whether to review the full announcement. Moreover, as indicated in a response to a previous comment, additional information in a Grants.gov FIND data element necessarily is less detailed than an explanation in a full announcement and therefore could mislead potential applicants.

Comment: One commenter asked that we clarify that the “due date for applications” data element includes due dates for letters of intent or pre-proposals.

Response: Agree. We changed the description of this element to state that the pre-application due date must be provided if a pre-application is required in order to submit an application.

Comment: One commenter asked why the description of the data element “Date of Grants.gov FIND posting” said that an agency might post a synopsis to Grants.gov FIND after Federal Register publication of the full announcement. The commenter suggested that it would be in the spirit of Grants.gov FIND to have the synopsis posted there as soon as available.

Response: No change. Ideally, one could post a Grants.gov FIND synopsis simultaneously with issuing the full announcement (which could be in the electronic Federal Register or at an Internet site the agency selects), so that information in the Grants.gov FIND synopsis would let a user immediately find the announcement as soon as both are posted. However, perfect synchronization is not practical because one agency activates the synopsis and another usually issues the full announcement. The language in the proposal therefore recognizes that an agency might send the synopsis to Grants.gov FIND and ask that they build in a small delay before posting it, to ensure that the full announcement is available electronically as soon as the Grants.gov FIND synopsis appears. Doing so can avoid unnecessary frustration for Grants.gov FIND users, as well as trouble reports and questions to agency officials.

Dated: June 17, 2003.
Linda M. Springer,
Controller.

Data element | Description | Is agency input required?
Federal agency user identification | User ID of Federal agency representative who is authorized to post information to the Grants.gov FIND site | One entry required.
Federal agency user password | Password of Federal agency representative who is authorized to post information to the Grants.gov FIND site | One entry required.
Announcement type | Type of announcement to which the synopsis relates: Initial announcement. Modification to priviously issued announcement. | One entry required.
Funding opportunity title | The Federal agency's title for the funding opportunity (including program subcomponent names, as the agency deems appropriate) | One entry required.
Funding opportunity number | The number, if any, that the Federal agency assigns to its announcement. For a modification of a previously issued announcement, use the funding opportunity number of that earlier announcement | Optional for initial announcement if you give no number, Grants.gov FIND will assign one. Agency input is required for modification.
Catalog of Federal Domestic Assistance (CFDA) number(s) | Number(s) of the CFDA listing(s) for program(s) included in the announcement (e.g., 12.300) | At least one entry required (may list more than one) if the Federal agency is subject to the requirement in 31 U.S.C. chapter 61 to report to the CFDA. Federal agencies that have programs that are not domestic assistance, and therefore are not listed in the CFDA, may arrange with Grants.gov FIND to insert an alternative number that will allow listing of the funding opportunity.
Federal agency name | Name of the Federal organization responsible for the announcement, including agency name and, as applicable, specific subcomponent (e.g., department, bureau, directorate, or division) | Optional. If you give no office name, Grants.gov FIND will insert the office name you gave when you initially registered and got your user ID and password.
Federal agency contact for electronic access problems | Should list name of person (e.g., webmaster) to whom potential applicants should refer questions if they cannot link from Grants.gov FIND to the full announcement (this person is distinct from programmatic and other agency contacts who are listed in the full announcement) | At least one entry required. May list more than one.
E-mail address for Federal agency contact for electronic access problems | E-mail address of Federal agency contact who can help with electronic access problems | Required. May list only one.
Telephone number for Federal agency contact for electronic access problems | Telephone number of Federal agency contact who can help with electronic access problems | Required. May list only one.
Funding opportunity description | A concise description of the funding opportunity, designed to contain sufficient information for potential applicants to decide whether they are interested enough to read the full announcement | Required.
Funding instrument types | Types of instruments that may be awarded (codes provided for system-to-system interface): | Required. Select all that apply (up to 4 codes).
| Grant (G)
| Cooperative Agreement (CA)
| Procurement Contract (PC)
| Other (O)
| Note that if your announcement states that you may award procurement contracts, as well as assistance instruments, the announcement must be posted to both the procurement and assistance modules of Grants.gov FIND |
Category of funding activity | Designed to allow potential applicants to narrow their searches to programs in CFDA categories of interest to them. Note that the terms are defined in the CFDA. List all categories that apply (codes provided for system-to-system interface): | At least one required and may list as many as needed. There is no default value. If the category of funding activity does not clearly fit in any other listed category, must select “Other.”
| Agriculture (AG)
| Arts (AR—see “Cultural Affairs” in the CFDA)
| Business and Commerce (BC)
| Community Development (CD)
| Consumer Protection (CP)
| Disaster Prevention and Relief (DPR)
| Education (ED)
| Employment, Labor and Training (ELT)
| Energy (EN)
| Environment (ENV)
| Food and Nutrition (FN)
| Health (HL)
| Housing (HO)
| Humanities (HU—see “Cultural Affairs” in the CFDA)
| Income Security and Social Services (ISS)
| Information and Statistics (IS)
| Law, Justice and Legal Services (LJL)
| Natural Resources (NR)
| Regional Development (RD)
| Science and Technology and other Research and Development (ST)
| Transportation (T)
| Other (O—see text field entitled “Explanation of other category of funding activity” for clarification.)
Explanation of “other” category of funding activity | A text description of what other category or categories of activity are eligible for support under the funding opportunity | Required if an agency selects “other” as a category of funding activity, either by itself or in combination with one or more other categories.
Estimated total program funding | The total amount of funding the agency expects to make available for awards under this announcement | Optional. Default, if agency provides no input, is “not available.” However, as a matter of Government-wide policy, agencies are strongly encouraged to provide this information whenever possible.
Expected number of awards | The number of individual awards the agency expects to make under this announcement | Optional. Default, if agency provides no input, is “not available.” However, as a matter of Government-wide policy, agencies are strongly encouraged to provide this information whenever possible.
Ceiling, if any, on amount of individual award | Any maximum dollar amount for an individual award under this announcement that the awarding agency will not exceed | Required. Enter a number or “none.”
Floor, if any, on amount of individual award. | Any minimum dollar amount for an individual award under this announcement (i.e., if the awarding agency will not make smaller awards under any circumstance) | Required. Enter a number or “none.”
How to get full announcement | Hypertext stating where to get the full announcement. If it is available on the Internet, this field should include the descriptor that precedes the URL for the full announcement (e.g., “Click on the following link to see the full text of the announcement for this funding opportunity:” | Required.
Electronic link to full announcement | The URL for the full announcement, unless the announcement is uploaded in Grants.gov FIND | Agency input is optional because there will be no URL if the agency uploads the announcement in Grants.gov FIND and does not also post it on the Internet.
Eligible applicants | Designed to help potential applicants narrow their searches to programs where they are most likely to be eligible, although they still must read the full announcement for details because eligibility may be further limited to certain subsets of applicants within the categories below (codes provided for system-to-system interface) | Required to either select “99” for unrestricted or select all others that apply.
| 99—Unrestricted (i.e., open to any type of entity below), subject to any exceptions listed in the text field entitled “Additional information on eligibility” |
| Government codes: 00—State governments 01—County governments 02—City or township governments 04—Special district governments 05—Independent school districts 06—State controlled institutions of higher education 07—Native American tribal governments (Federally recognized) 08—Public housing authorities/Indian housing authorities
| Non-Government organizations: 11—Native American tribal organizations (other than Federally recognized tribal governments)
| 12—Nonprofits with 501(c)(3) IRS status, other than institutions of higher education
| 13—Nonprofits without 501 (c)(3) IRS status, other than institutions of higher education 20—Private institutions of higher education 21—Individuals 22—For-profit organizations other than small businesses 23—Small businesses
Additional information on eligibility | Explanatory information to provide any needed clarification of the meaning of “unrestricted” (e.g., all but foreign entities), to identify types of recipients meant by “all others,” or to provide further information about limitations for any other categories (e.g., for categories 6 and 20, a limitation to historically Black colleges and universities) | Required if agency selects either category 25 or category 99 in “eligible applicants” field. If agency selects category 99 and there are no further limitations, enter “no restrictions.” Optional for additional information related to any category other than 99 or 25.
Cost sharing or matching requirement | Answer to question: Is cost sharing ormatching required? (Y or N) | Required.
Due date for applications | Date when applications are due (or latest date when applications accepted, if announcement has multiple due dates or is a general announcement that is open for a specified period with applications accepted at any time during that period). Note: This field is to contain the date when pre-applications, rather than applications, are due if an applicant must submit a pre-application to be considered for an award | Required if “Explanation of application due dates” field is not completed. Optional otherwise.
Explanation of application due dates | Used by agencies wishing to post more information about due date(s) for potential applicants. For example, the field may be used to describe programs with multiple due dates or ones where applications are accepted, reviewed, and funded at any point within a broad time window. The field also may be used to add information about the time when applications are due (e.g., 5 p.m. EDT on the date given in the “Due date for applications” field) | Optional (note “Due date for applications” field is required if this “Explanation of application due dates” text field is not completed).
Date of Grants.gov FIND posting | Month, day, and year when the agency wants the synopsis posted on Grants.gov FIND (e.g., some agencies may build in delays to allow announcements to appear first in the Federal Register or at agency Internet sites. Format is MMDDCCYY | Required.
Date for Grants.gov FIND to archive | Month, day, and year when the agency wants the synopsis archived. Format is MMDDCCYY | Optional. Default, if agency provides no input, is 30 days after the date given in the “Due date for applications” field.

[FR Doc. 03-15799 Filed 6-20-03; 8:45 am]

BILLING CODE 3110-01-P